DEPARTMENT OF TRANSPORTATION

Surface Transportation Board

[STB Finance Docket No. 34417 (Sub-No. 1)]

Union Pacific Railroad Company—Trackage Rights Exemption—The Burlington Northern and Santa Fe Railway Company

AGENCY: Surface Transportation Board, DOT.

ACTION: Partial revocation of exemption.

SUMMARY: The Board, under 49 U.S.C. 10502, revokes the class exemption as it pertains to the trackage rights described in STB Finance Docket No. 34417 to permit the trackage rights to expire on October 15, 2004, in accordance with the agreement of the parties.¹

¹ On October 14, 2003, UP concurrently filed a verified notice of exemption under the Board's class exemption procedures at 49 CFR 1180.2(d)(7). The notice covered the agreement by BNSF to grant temporary local trackage rights to UP over a BNSF line of railroad between milepost 114.5 and milepost 117.0 near Endicott, NE, a distance of approximately 2.5 miles. UP submits that the trackage rights are only temporary rights, but, because they are “local” rather than “overhead” rights, they do not qualify for the Board's new class exemption for temporary trackage rights at 49 CFR 1180.2(d)(8). See Union Pacific Railroad Company—Trackage Rights Exemption—The Burlington Northern and Santa Fe Railway Company, STB Finance Docket No. 34417 (STB served Nov. 3, 2003). The trackage rights operations under the exemption were scheduled to begin on October 21, 2003.

DATES: This exemption is effective on January 7, 2004. Petitions to stay must be filed by December 18, 2003. Petitions to reopen must be filed by December 29, 2003.

ADDRESSES: An original and 10 copies of all pleadings referring to STB Finance Docket No. 34417 (Sub-No. 1) must be filed with the Surface Transportation Board, 1925 K Street, NW., Washington, DC 20423-0001. In addition, a copy of all pleadings must be served on petitioner's representative: Robert T. Opal, 1416 Dodge Street, Room 830, Omaha, NE 68179.

FOR FURTHER INFORMATION CONTACT: Joseph H. Dettmar (202) 565-1609. [Federal Information Relay Service (FIRS) for the hearing impaired: 1-800-877-8339.]

SUPPLEMENTARY INFORMATION: Additional information is contained in the Board's decision. To purchase a copy of the full decision, write to, call, or pick up in person from: ASAP Document Solutions, Suite 405, 1925 K Street, N.W., Washington, DC 20006. Telephone: (202) 293-7878. [Assistance for the hearing impaired is available through FIRS at 1-800-877-8339.]

Board decisions and notices are available on our Web site at “http://www.stb.dot.gov.”

Decided: November 24, 2003.
By the Board, Chairman Nober.
Vernon A. Williams,
Secretary.

[FR Doc. 03-29811 Filed 12-5-03; 8:45 am]

BILLING CODE 4915-00-P